DEPARTMENT OF TRANSPORTATION

Surface Transportation Board

[STB Finance Docket No. 35255]

Temple & Central Texas Railway, Inc.—Operation Exemption—City of Temple, TX

Temple & Central Texas Railway, Inc. (TC), a noncarrier, has filed a verified notice of exemption under 49 CFR 1150.31 to operate about 7.7 miles of unmarked rail line (the line) owned by the City of Temple (the City), in Bell County, TX.¹ TC states that it intends to interchange traffic with BNSF Railway Company (BNSF).²

¹ There are no mileposts on the line. The City constructed the line as part of the development of an industrial park in the Temple Reinvestment Zone and has licensed TC to provide operations over the line.

² TC states there are no interchange commitments or paper barriers in the license and operating agreement, nor will there be any interchange commitments or paper barriers in the interchange agreement with BNSF.

This transaction is related to a concurrently filed verified notice of exemption for Patriot Rail, LLC, Patriot Rail Holdings LLC, and Patriot Rail Corp. to continue in control of TC upon TC's becoming a Class III rail carrier. See STB Finance Docket No. 35256, Patriot Rail, LLC, Patriot Rail Holdings LLC, and Patriot Rail Corp.—Continuance in Control Exemption—Temple & Central Texas Railway, Inc.

The transaction is expected to be consummated on or after August 1, 2009.

TC certifies that its projected annual revenues as a result of the transaction will not result in TC becoming a Class II or Class I rail carrier and further certifies that its projected annual revenue will not exceed $5 million.

Pursuant to the Consolidated Appropriations Act, 2008, Public Law 110-161, § 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than July 22, 2009 (at least 7 days before the exemption becomes effective).

An original and 10 copies of all pleadings, referring to STB Finance Docket No. 35255, must be filed with the Surface Transportation Board, 395 E Street, SW., Washington, DC 20423-0001. In addition, a copy of each pleading must be served on Louis E. Gitomer, 600 Baltimore Ave., Suite 301, Towson, MD 21204.

Board decisions and notices are available on our Web site at http://www.stb.dot.gov.

Decided: July 9, 2009.
By the Board, Rachel D. Campbell, Director, Office of Proceedings.
Jeffrey Herzig,
Clearance Clerk.

[FR Doc. E9-16633 Filed 7-14-09; 8:45 am]

BILLING CODE 4915-01-P